DEPARTMENT OF COMMERCE

National Telecommunications and Information Administration

Public Meeting on the Telephone Number Mapping (ENUM) Protocol

AGENCY: National Telecommunications and Information Administration.

ACTION: Notice of public meeting.

SUMMARY: The National Telecommunications and Information Administration (NTIA), U.S. Department of Commerce, will hold a roundtable to discuss and explore issues related to the Internet Engineering Task Force's (IETF) Telephone Number Mapping (ENUM) protocol and the work being undertaken between the IETF and the International Telecommunication Union (ITU) Study Group 2 (SG2) to consider how number resolution using ENUM may be affected by public switched telephone network infrastructure and telephone numbering administration.

DATES: The meeting will be held from 12:30 p.m. to 5:00 p.m., Monday, December 18, 2000.

ADDRESSES: The meeting will be held at the U.S. Department of Commerce, Room B841A, 1401 Constitution Avenue, NW., Washington, DC. The meeting will be open to the public.

FOR FURTHER INFORMATION: For further information, please contact Karen Rose, Office of International Affairs, NTIA, telephone: (202) 482-1866. Individuals wishing to attend the meeting should send an e-mail with the participants name, organizational affiliation, and telephone number to <krose@ntia.doc.gov> with a subject line entitled ENUM ROUNDTABLE or call Ms. Rose with this information at the above-listed number.

SUPPLEMENTARY INFORMATION: Currently, communications users require a number of different identifiers to be reachable through various communications networks and services. For example, a user might have an e-mail address, a telephone number, and a fax number, among others. The ENUM protocol, the result of work of the Internet Engineering Task Force's (IETF's) Telephone Number Mapping working group (<http://www.ietf.org/html.charters/enum-charter.html>), is designed to allow communications users to be reachable using standard telephone numbers (E.164 numbers) as a universal communications identifier. The ENUM protocol uses the Internet domain name system (DNS) to resolve E.164 numbers into the specific routing information needed to connect users through a chosen communication path. E.164 is an International Telecommunications Union (ITU) Recommendation that provides the number structure used for international public telecommunication numbering plan. The ENUM protocol itself is defined in IETF document “E.164 number and DNS” (RFC 2916) (see website above).

As part of the its work, the IETF engaged the ITU to consider how number resolution using ENUM might be affected by public switched telephone network infrastructure and telephone numbering plans, such as the ITU E.164 standard. Work in the ITU has been undertaken in ITU Telecommunication Standardization Sector (ITU-T) Study Group 2 (SG 2) Working Party 1 (WP1), which recently held a meeting in Berlin, Germany on October 16-26, 2000. Among other issues, SG2/WP1 meeting discussed issues raised by ENUM, and particularly, the method for administering and maintaining ENUM E.164-based resources in the DNS. The SG2/WP1 meeting resulted in the issuance of a liaison statement to the IETF that set forth a view on how E.164 resources should be administered, as well identifying other issues for further consideration (See <http://www.itu.int/infocom/enum/wp1-39_rev1.htm>).

The December 18 meeting intends to explore and stimulate discussion on issues raised by ENUM, including those raised by recent ITU work. To facilitate an exchange of views, the meeting will be structured as a roundtable discussion. The tentative agenda for the meeting (subject to change) is as follows:

1. Welcome.

2. Technical overview of ENUM and examples of possible services enabled by the ENUM protocol.

3. Exploration and discussion of issues raised by ENUM and ENUM numbering administration.

4. Discussion of ITU SG2/WP1 meeting results and possible US approaches to SG2/WP1 to the issue going forward.

5. Discussion on additional steps for progressing consideration of the issue.

6. Summary.

Public Participation

The meeting will be open to the public an is physically accessible to people with disabilities. Individuals wishing to attend should send an e-mail with the participants name, organizational affiliation, and telephone number to <krose@ntia.doc.gov> with a subject line entitled ENUM ROUNDTABLE or call Ms. Rose at (202) 482-1866 with this information. To facilitate entry into the Department of Commerce building, please have a photo identification and/or a U.S. Government building pass, if applicable. Any member of the public wishing to attend and requiring special services, such as sign language interpretation or other ancillary aids, should contact Ms. Rose at least three (3) days prior to the roundtable at the above-listed e-mail address or telephone number.

Kathy D. Smith,
Chief Counsel.

[FR Doc. 00-31630 Filed 12-11-00; 8:45 am]

BILLING CODE 3510-60-P